NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. NSF has published regulations under the Antarctic Conservation Act in the Code of Federal Regulations. This is the required notice of a requested permit modification issued.

FOR FURTHER INFORMATION CONTACT: Andrew Titmus, ACA Permit Officer, Office of Polar Programs, National Science Foundation, 2415 Eisenhower Avenue, Alexandria, VA 22314; 703-292-4479; email: ACApermits@nsf.gov.

SUPPLEMENTARY INFORMATION: The National Science Foundation (NSF), as directed by the Antarctic Conservation Act of 1978 (Pub. L. 95-541, 45 CFR part 670), as amended by the Antarctic Science, Tourism and Conservation Act of 1996, has developed regulations for the establishment of a permit system for various activities in Antarctica and designation of certain animals and certain geographic areas as requiring special protection.

Description of Permit Modification Requested: The Foundation issued a permit (ACA 2023-004) to Steve Emslie on July 26, 2022. The issued permit allows for take and harmful interference associated with research examining ecological responses in diet and foraging behavior of the Adelie penguin (Pygoscelis adeliae) in Antarctica. The permit holder may collect up to 150 ancient and modern penguin tissues per year at active and abandoned penguin colonies in the Ross Sea region. Ice-free areas would be surveyed and sampled through excavations 1x1 m in size, of sediment and rock in penguin colonies, and bones, feathers, eggshell, and whole carcasses would be salvaged. The permit holder may collect salvaged whole or partial seabird carcasses, up to 10 of each species per year, of native Antarctic birds found dead on beaches, at seabird colonies, at McMurdo and Palmer stations, or on any U.S. Antarctic Program (USAP) vessel. The applicant may enter ASPAs 104, 105, 106, 121, 124, 159, 161, 165.

Now the applicant proposes a modification to the permit to add access to ASPA 178—Inexpressible Island and Seaview Bay, Ross Sea to continue diet and foraging behavior research. The activities are consistent with the management plan for the ASPA.

The ACA Permit Officer has reviewed the modification request and has determined that the amendment is not a material change to the permit, and it will have a less than a minor or transitory impact.

Dates: July 26, 2022 to December 31, 2025.

The permit modification was issued on June 25, 2024.
Kimiko S. Bowens-Knox,
Program Analyst, Office of Polar Programs.

[FR Doc. 2024-17437 Filed 8-6-24; 8:45 am]

BILLING CODE 7555-01-P